RAILROAD RETIREMENT BOARD

20 CFR Part 321

RIN 3220-AB57

Electronic Filing of Applications and Claims for Benefits Under the Railroad Unemployment Insurance Act

AGENCY: Railroad Retirement Board.

ACTION: Final rule.

SUMMARY: The Railroad Retirement Board (Board) amends its regulations to permit the filing of applications and claims for benefits under the Railroad Unemployment Insurance Act via the Internet electronically. The Government Paperwork Elimination Act provides that Federal agencies are required to provide “for the option of the electronic maintenance, submission, or disclosure of information, when practicable as a substitute for paper”. The new part will permit the filing of applications and claims for benefits under the Railroad Unemployment Insurance Act via the Internet electronically.

DATES: Effective Date: This rule is effective June 9, 2004.

ADDRESSES: Comments, if any, may be addressed to Beatrice Ezerski, Secretary to the Board, Railroad Retirement Board, 844 North Rush Street, Chicago, Illinois 60611-2092.

FOR FURTHER INFORMATION CONTACT: Marguerite P. Dadabo, Assistant General Counsel, (312) 751-4945, TTD (312) 751-4701.

SUPPLEMENTARY INFORMATION: This amendment adds a new part 321 to the Board's regulations (20 CFR part 321) to permit the filing of applications and claims for benefits under the Railroad Unemployment Insurance Act via the Internet electronically. The Government Paperwork Elimination Act, Public Law 105-277, sections 1701-1710 (codified as a note after 44 U.S.C. 3504) provides that Federal agencies are required to provide “for the option of the electronic maintenance, submission, or disclosure of information, when practicable as a substitute for paper”.

The new part 321 provides that both an application and claims for benefits under the Railroad Unemployment Insurance Act may be filed electronically through the Board's Internet Web site utilizing a User ID and a PIN/Password system. The new part further provides that determinations regarding those applications and claims will be adjudicated in accord with established procedures.

In establishing the authenticity of the person who is filing an application or claim for benefits, the Board intends to use a User ID and a PIN/Password system for identification as a substitute for a signature.

The Board currently uses a User ID and a PIN/Password system to allow employers access to RRBLINK to make electronic tax deposits and submit Form DC-1, “Employer's Quarterly Report of Contributions Under the RUIA” (Railroad Unemployment Insurance Act) electronically. A PIN/Password system is used to access the Pay.gov Web site. The U.S. Department of the Treasury operates the Pay.gov Web site. Such a system is also consistent with the guidance provided by the Department of Justice regarding the use of electronic processes.

The Board published part 321 as a proposed rule on November 7, 2003 (68 FR 63041). Only one comment was received. The commenter found the reference to the “User ID/PIN/Password system” confusing. In this final rule publication we have clarified that the person will be identified by a User ID and a PIN that will serve as the password to make transactions through the system.

The Board, with the concurrence of the Office of Management and Budget, has determined that this final rule does not constitute a significant regulatory action under Executive Order 12866. Therefore, no regulatory analysis is required. The Office of Management and Budget has approved information collections associated with this rule under control numbers 3220-0022, 3220-0039, and 3220-0198.

List of Subjects in 20 CFR Part 321

Claims, Railroad unemployment insurance, Reporting and recordkeeping requirements.

For the reasons set out in the preamble, the Railroad Retirement Board amends title 20, chapter II, of the Code of Federal Regulations by adding a new part 321 to read as follows:

PART 321—ELECTRONIC FILING OF APPLICATIONS AND CLAIMS FOR BENEFITS UNDER THE RAILROAD UNEMPLOYMENT INSURANCE ACT

Sec.
321.1 Filing applications electronically.
321.2 Filing claims for benefits electronically.

Authority: 45 U.S.C. 355 and 362(l).

§ 321.1 Filing applications electronically.

(a) Electronic filing. An application for benefits under the Railroad Unemployment Insurance Act may be filed electronically through the Board's Internet Web site, http://www.rrb.gov, utilizing a User ID and a PIN/Password.

(b) Adjudication of applications filed electronically. An application filed electronically shall be adjudicated in accordance with the procedures set forth in this part.

(c) Date of filing. The date of filing for an application filed electronically shall be the date that the electronic filing of the application is accepted by the Board's electronic system. If an attempt to file an application through the Board's electronic system is unsuccessful and is rejected by that system, the claimant must submit another application. If the subsequent application, filed either electronically or on paper, is received by the Board within 30 days from the date of the notification that the initial filing attempt was rejected, the Board will establish the filing date of the subsequent application as the date the rejected application was attempted to be filed.

§ 321.2 Filing claims for benefits electronically.

(a) Electronic filing. A claim for benefits under the Railroad Unemployment Insurance Act may be filed electronically through the Board's Internet Web site, http://www.rrb.gov, utilizing a User ID and a PIN/Password.

(b) Adjudication of claims filed electronically. A claim for benefits under the Railroad Unemployment Insurance Act filed electronically shall be adjudicated in accordance with the procedures set forth in this part.

(c) Date of filing. The date of filing for a claim for benefits under the Railroad Unemployment Insurance Act filed electronically shall be the date that the electronic filing of the claim is accepted by the Board's electronic system. If an attempt to file a claim for benefits under the Railroad Unemployment Insurance Act is unsuccessful and is rejected by the Board's electronic system, the claimant must submit another claim for benefits. If the subsequent claim for benefits, either filed electronically or on paper, is received by the Board within 30 days from the date of the notification that the initial filing was rejected, the Board will establish the filing date of the subsequent claim as the date the rejected claim was attempted to be filed.

Dated: June 3, 2004.
By Authority of the Board.
For the Board,
Carolyn Rose,
Staff Assistant, Office of Secretary to the Board.

[FR Doc. 04-13009 Filed 6-8-04; 8:45 am]

BILLING CODE 7905-01-P